ENVIRONMENTAL PROTECTION AGENCY

40 CFR Part 441

[EPA-HQ-OW-2014-0693; FRL-9957-10-OW]

RIN 2040-AF26

Effluent Limitations Guidelines and Standards for the Dental Category

Correction

In rule document C1-2017-12338, beginning on page 28777, in the issue of Monday, June 26, 2017 make the following corrections:

§ 441.30 Pretreatment standards for existing sources (PSES) [Corrected]

1. On page 28777, in the second column, “§ 441.20 General definitions [Corrected]” should read “§ 441.30 Pretreatment standards for existing sources (PSES) [Corrected]”.

2. On page 28777, in the second column, “the 18th line of paragraph (iii)” should read “in the 9th line of paragraph (iii)”.

[FR Doc. C2-2017-12338 Filed 7-3-17; 8:45 am]

BILLING CODE 1301-00-D